ENVIRONMENTAL PROTECTION AGENCY

40 CFR Part 52

[PA208-4216a; FRL-7569-1]

Approval and Promulgation of Air Quality Implementation Plans; Pennsylvania; VOC and NOX RACT Determinations for Three Individual Sources

AGENCY: Environmental Protection Agency (EPA).

ACTION: Direct final rule.

SUMMARY: EPA is taking direct final action to approve revisions to the Commonwealth of Pennsylvania's State Implementation Plan (SIP). The revisions were submitted by the Pennsylvania Department of Environmental Protection (PADEP) to establish and require reasonably available control technology (RACT) for three major sources of volatile organic compounds (VOC) and nitrogen oxides (NOX) located in Pennsylvania. EPA is approving these revisions to establish RACT requirements in the SIP in accordance with the Clean Air Act (CAA).

DATES: This rule is effective on December 15, 2003 without further notice, unless EPA receives adverse written comment by November 14, 2003. If EPA receives such comments, it will publish a timely withdrawal of the direct final rule in the Federal Register and inform the public that the rule will not take effect.

ADDRESSES: Comments may be submitted either by mail or electronically. Written comments should be mailed to Makeba Morris, Chief, Air Quality Planning Branch, Mailcode 3AP21, U.S. Environmental Protection Agency, Region III, 1650 Arch Street, Philadelphia, Pennsylvania 19103. Electronic comments should be sent either to morris.makeba@epa.gov or to http://www.regulations.gov, which is an alternative method for submitting electronic comments to EPA. To submit comments, please follow the detailed instructions described in Part IV of the Supplementary Information section. Copies of the documents relevant to this action are available for public inspection during normal business hours at the Air Protection Division, U.S. Environmental Protection Agency, Region III, 1650 Arch Street, Philadelphia, Pennsylvania 19103; the Air and Radiation Docket and Information Center, U.S. Environmental Protection Agency, 1301 Constitution Avenue, NW., Room B108, Washington, DC 20460; and Pennsylvania Department of Environmental Protection, Bureau of Air Quality, P.O. Box 8468, 400 Market Street, Harrisburg, Pennsylvania 17105.

FOR FURTHER INFORMATION CONTACT: Rose Quinto, (215) 814-2182, or by e-mail at quinto.rose@epa.gov.

SUPPLEMENTARY INFORMATION:

I. Background

Pursuant to sections 182(b)(2) and 182(f) of the CAA, the Commonwealth of Pennsylvania (the Commonwealth or Pennsylvania) is required to establish and implement RACT for all major VOC and NOX sources. The major source size is determined by its location, the classification of that area, and whether it is located in the ozone transport region (OTR). Under section 184 of the CAA, RACT, as specified in sections 182(b)(2) and 182(f) applies throughout the OTR. The entire Commonwealth is located within the OTR. Therefore, RACT is applicable statewide in Pennsylvania.

II. Summary of SIP Revision

On July 2, 2003, the Pennsylvania Department of Environmental Protection (PADEP) submitted formal revisions to its SIP to establish and impose case-by-case RACT for several major sources of VOC and NOX. This rulemaking pertains to three of those sources. The other sources are subject to separate rulemaking actions. The RACT determinations and requirements in this SIP revision are included in plan approvals (PA) and operating permits (OP) issued by PADEP.

The following identifies the individual PA or OP that EPA is approving for each source.

A. Andritz, Inc.

Andritz, Inc. is a facility with foundry operations located in Lycoming County, Pennsylvania and is considered a major VOC emitting facility. In this instance, RACT has been established and imposed by PADEP in a plan approval. On July 2, 2003, PADEP submitted plan approval No. 41-00010C to EPA as a SIP revision. This plan approval incorporates RACT determinations as required by the provisions of Title I of the CAA and sections 129.91 through 129.95 of Chapter 129 of Article III of the rules and regulations of PADEP for the refiner plate molding line, the green sand molding line, the no-bake floor molding line and a core making operation, propane generators and several other minor sources. In any 12 consecutive month period, the total combined VOC emissions from the refiner plate molding shall not exceed 57.99 tons and the line shall not be operated more than 7,000 hours. The total amount of steel processed by the refiner plate molding line shall not exceed 11,000 tons in any 12 consecutive month period. The total combined VOC emissions from the green sand molding line, the no-bake floor molding line and the core making operation, plus the combined VOC emissions from the propane-fired generators and minor sources identified below, shall not exceed a total of 69.86 tons in any 12 consecutive month period. The total combined amount of steel processed by the green sand molding line and the no-bake floor molding line shall not exceed 8,000 tons and these lines shall not be operated more that 7,000 hours in any 12 consecutive month period. In addition, the total combined VOC from the core making operation shall not exceed 2.70 tons in any 12 consecutive month period.

The facility shall maintain accurate and comprehensive records of the following: (1) The amount of steel processed each month by the refiner plate molding line, the green sand molding line, and the no-bake floor molding line; (2) the number of hours of operation each month of the refiner plate molding line, the green sand molding line, and the no-bake floor molding line; and (3) the amount of binders/resins used in the core making operation each month. These records shall be used by the facility to calculate the monthly emission of VOCs from the refiner plate molding line, the green sand molding line, the no-bake floor molding line and the core making operation. All records generated, including the VOC emissions calculations, shall be retained on site for at least five years from the date of generation and shall be provided to PADEP upon request. The monthly emissions report shall include all background information and calculations used in the derivation of these emissions.

B. Brodart Company

Brodart Company is a wood furniture finishing operation facility located in Clinton County, Pennsylvania and is considered a major VOC emitting facility. In this instance, RACT has been established and imposed by PADEP in a plan approval. On July 2, 2003, PADEP submitted plan approval No. 18-0007A to EPA as a SIP revision. This plan approval also incorporates RACT determinations as required by the provisions of Title I of the CAA and sections 129.91 through 129.95 of Chapter 129 of Article III of the Rules and Regulations of PADEP for the following: (1) A 2.6 million BTU per hour (MMBTU/hr) De Burg natural gas-fired oven; (2) a 2.5 MMBTU/hr North American natural gas-fired oven; (3) a 2.5 MMBTU/hr Weil McLain natural gas/#2 oil-fired boiler; (4) a 15 kW Kohler natural gas-fired emergency generator that shall not be operated more than 500 hours in any 12 consecutive month period; (5) gluing operations and several miscellaneous sources.

The total combined VOC emissions from these sources shall not exceed 2.70 tons in any 12 consecutive month period. The 15 KW natural gas energy generator shall not be operated more than 500 hours in any 12 consecutive month period. In addition, the plan approval contains reference to specific low VOC content glues and adhesives that shall used in the gluing operation. The facility shall maintain accurate and comprehensive records of the number of hours the emergency generator was operated during each month. All records generated shall be retained on site for a period of at least five years from the date of generation and shall be provided to PADEP upon request. In addition, all records generated for each calendar quarter, including air contaminant emission calculations, shall be submitted to PADEP by no later than the 30th day following the respective calendar quarter (reports due on January 30, April 30, July 30 and October 30). This report shall include all background information and calculations used in the derivation of the reported values.

C. Erie Sewer Authority

The Erie Sewer Authority is a waste water treatment plant (WWTP) located in Erie County, Pennsylvania and is considered a NOX emitting facility. The Erie WWTP is a secondary activated sludge treatment plant. In this instance, RACT has been established and imposed by PADEP in an operating permit. On July 2, 2003, PADEP submitted operating permit No. OP-25-179 to EPA as a SIP revision. The sources in this facility are seven space heaters, four emergency generators, and two sewage sludge incinerators.

RACT for the seven (7) heaters, with individual rated gross heat inputs less than 20 MMBTU/hr, shall be installation, maintenance, and operation in accordance with the manufacturer's specifications. These sources shall also be operated and maintained in accordance with good air pollution control practices.

RACT for the four (4) emergency generators, operating less than 500 hours in a consecutive 12-month period, shall be installation, maintenance, and operation in accordance with the manufacturer's specifications. These sources shall also be operated and maintained in accordance with good air pollution control practices.

RACT for the two (2) sewage sludge incinerators shall be the continued management of the units to ensure proper combustion. This includes operation and maintenance of the sources and associated control devices in accordance with the manufacturer's specifications and consistent with good operating and maintenance practices. The NOX emissions from each of the sewage sludge incinerators shall not exceed 10.0 pound per ton of sewage sludge (on a dry basis). The facility shall test each of the incinerators at least once every five years. The stack tests shall be performed at maximum rated capacity following the procedures in 25 Pa Code chapter 139.

The facility shall maintain records in accordance with the recordkeeping requirements of 25 Pa Code section 129.95 that will include at a minimum: (a) Records that indicate that each of the four emergency generators did not operate more than 500 hours in a consecutive 12-month period; (b) records that indicate that each of the four emergency generators are maintained and operated in accordance with the manufacturer's specifications; and (c) records that indicate that each of the seven space heaters are maintained and operated in accordance with manufacturer's specifications.

III. EPA's Evaluation of the SIP Revisions

EPA is approving these SIP submittals because the Commonwealth established and imposed requirements in accordance with the criteria set forth in SIP-approved regulations for imposing RACT or for limiting a source's potential to emit. The Commonwealth has also imposed record-keeping, monitoring, and testing requirements on these sources sufficient to determine compliance with these requirements.

IV. Final Action

EPA is approving revisions to the Commonwealth of Pennsylvania's SIP which establish and require RACT for the three major sources of VOC and NOX listed in this document. EPA is publishing this rule without prior proposal because we view this as a noncontroversial amendment and anticipate no adverse comment. However, in the “Proposed Rules” section of today's Federal Register, EPA is publishing a separate document that will serve as the proposal to approve the SIP revision if adverse comments are filed. This direct final rule will be effective on December 15, 2003, without further notice unless we receive adverse comment by November 14, 2003. If EPA receives adverse comment, EPA will publish a timely withdrawal in the Federal Register informing the public that the rule will not take effect. EPA will address all public comments in a subsequent final rule based on the proposed rule. EPA will not institute a second comment period on this action. Any parties interested in commenting must do so at this time. Please note that if EPA receives adverse comment on an amendment, paragraph, or section of this rule and if that provision may be severed from the remainder of the rule, EPA may adopt as final those provisions of the rule that are not the subject of an adverse comment.

You may submit comments either electronically or by mail. To ensure proper receipt by EPA, identify the appropriate rulemaking identification number PA208-4216 in the subject line on the first page of your comment. Please ensure that your comments are submitted within the specified comment period. Comments received after the close of the comment period will be marked “late.” EPA is not required to consider these late comments.

1. Electronically. If you submit an electronic comment as prescribed below, EPA recommends that you include your name, mailing address, and an e-mail address or other contact information in the body of your comment. Also include this contact information on the outside of any disk or CD-ROM you submit, and in any cover letter accompanying the disk or CD-ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket. If EPA cannot read your comment due to technical difficulties and cannot contact you for clarification, EPA may not be able to consider your comment.

i. E-mail. Comments may be sent by electronic mail (e-mail) to morris.makeba@epa.gov, attention: PA208-4216. EPA's e-mail system is not an “anonymous access” system. If you send an e-mail comment directly without going through Regulations.gov, EPA's e-mail system automatically captures your e-mail address. E-mail addresses that are automatically captured by EPA's e-mail system are included as part of the comment that is placed in the official public docket.

ii. Regulations.gov. Your use of Regulation.gov is an alternative method of submitting electronic comments to EPA. Go directly to http://www.regulations.gov, then select “Environmental Protection Agency” at the top of the page and use the “go” button. The list of current EPA actions available for comment will be listed. Please follow the online instructions for submitting comments. The system is an “anonymous access” system, which means EPA will not know your identity, e-mail address, or other contact information unless you provide it in the body of your comment.

iii. Disk or CD-ROM. You may submit comments on a disk or CD-ROM that you mail to the mailing address identified in the ADDRESSES section of this document. These electronic submissions will be accepted in WordPerfect, Word or ASCII file format. Avoid the use of special characters and any form of encryption.

2. By Mail. Written comments should be addressed to the EPA Regional office listed in the ADDRESSES section of this document.

For public commenters, it is important to note that EPA's policy is that public comments, whether submitted electronically or in paper, will be made available for public viewing at the EPA Regional Office, as EPA receives them and without change, unless the comment contains copyrighted material, confidential business information (CBI), or other information whose disclosure is restricted by statute. When EPA identifies a comment containing copyrighted material, EPA will provide a reference to that material in the version of the comment that is placed in the official public rulemaking file. The entire printed comment, including the copyrighted material, will be available at the Regional Office for public inspection.

Submittal of CBI Comments

Do not submit information that you consider to be CBI electronically to EPA. You may claim information that you submit to EPA as CBI by marking any part or all of that information as CBI (if you submit CBI on disk or CD-ROM, mark the outside of the disk or CD-ROM as CBI and then identify electronically within the disk or CD-ROM the specific information that is CBI). Information so marked will not be disclosed except in accordance with procedures set forth in 40 CFR part 2.

In addition to one complete version of the comment that includes any information claimed as CBI, a copy of the comment that does not contain the information claimed as CBI must be submitted for inclusion in the official public regional rulemaking file. If you submit the copy that does not contain CBI on disk or CD-ROM, mark the outside of the disk or CD-ROM clearly that it does not contain CBI. Information not marked as CBI will be included in the public file and available for public inspection without prior notice. If you have any questions about CBI or the procedures for claiming CBI, please consult the person identified in the FOR FURTHER INFORMATION CONTACT section.

Considerations When Preparing Comments to EPA

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate regional file/rulemaking identification number in the subject line on the first page of your response. It would also be helpful if you provided the name, date, and Federal Register citation related to your comments.

IV. Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4). This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. Section 804 exempts from section 801 the following types of rules: (1) Rules of particular applicability; (2) rules relating to agency management or personnel; and (3) rules of agency organization, procedure, or practice that do not substantially affect the rights or obligations of non-agency parties. 5 U.S.C. 804(3). EPA is not required to submit a rule report regarding today's action under section 801 because this is a rule of particular applicability establishing source-specific requirements for three named sources.

C. Petitions for Judicial Review

Under section 307(b)(1) of the Clean Air Act, petitions for judicial review of this action must be filed in the United States Court of Appeals for the appropriate circuit by December 15, 2003. Filing a petition for reconsideration by the Administrator of this final rule does not affect the finality of this rule for the purposes of judicial review nor does it extend the time within which a petition for judicial review may be filed, and shall not postpone the effectiveness of such rule or action. This action, approving Pennsylvania's VOC and NOX RACT determinations for three individual sources, may not be challenged later in proceedings to enforce its requirements. (See section 307(b)(2).)

List of Subjects in 40 CFR Part 52

Environmental protection, Air pollution control, Incorporation by reference, Intergovernmental relations, Nitrogen dioxide, Reporting and recordkeeping requirements, Volatile organic compounds.

Dated: September 29, 2003.
James W. Newsom,
Acting Regional Administrator, Region III.

40 CFR part 52 is amended as follows:

PART 52—[AMENDED]

1. The authority citation for part 52 continues to read as follows:

Authority: 42 U.S.C. 7401 et seq.

Subpart NN—Pennsylvania

2. Section 52.2020 is amended by adding paragraph (c)(214) to read as follows:

§ 52.2020 Identification of plan.

* * * * *

(c) * * *

(214) Revisions to the Pennsylvania Regulations pertaining to VOC and NOX RACT for major sources submitted on July 2, 2003 by the Pennsylvania Department of Environmental Protection.

(i) Incorporation by reference.

(A) Letter of July 2, 2003 from the Pennsylvania Department of Environmental Protection transmitting source-specific VOC and/or NOX RACT determinations in the form of plan approvals or operating permits.

(B) Plan Approval (PA); Operating Permit (OP):

(1) Andritz, Inc., Lycoming County, 41-00010C, effective April 30, 2003.

(2) Brodart Company, Clinton County, 18-0007A, effective April 8, 2003.

(3) Erie Sewer Authority, Erie County, OP-25-179, effective June 5, 2003.

(ii) Additional Material.—Remainder of the State submittals pertaining to the revisions listed in paragraph (c)(214)(i) of this section.

[FR Doc. 03-25929 Filed 10-14-03; 8:45 am]

BILLING CODE 6560-50-P